DEPARTMENT OF ENERGY

Environmental Management Site-Specific Advisory Board Chairs

AGENCY: Department of Energy.

ACTION: Notice of Open Webinar.

SUMMARY: This notice announces a webinar of the Environmental Management Site-Specific Advisory Board (EM SSAB) Chairs. The Federal Advisory Committee Act (Pub. L. 92-463, 86 Stat. 770) requires that public notice of this webinar be announced in the Federal Register.

DATES: Thursday, April 25, 2013 1:00 p.m.-5:30 p.m.

FOR FURTHER INFORMATION CONTACT: Catherine Alexander, Designated Federal Officer, U.S. Department of Energy, 1000 Independence Avenue SW., Washington, DC 20585; Phone: (202) 586-7711.

SUPPLEMENTARY INFORMATION:

Purpose of the Board: The purpose of the Board is to make recommendations to DOE-EM and site management in the areas of environmental restoration, waste management, and related activities.

Tentative Agenda Topics:

○ DOE Headquarters News and Views

○ EM Program Update

○ EM Budget Update

○ Waste Disposition Strategies

○ EM SSAB Cross-Cutting Issues

Public Participation: The webinar is open to the public. Members of the public who would like to join the proceedings should contact Elizabeth Schmitt, Public Participation Coordinator, by April 22, 2013 to register and obtain access information. Ms. Schmitt can be reached via email at elizabeth.schmitt@em.doe.gov, or phone at (202) 586-1135.

Written statements may be filed with the Board either before or after the meeting. Individuals who wish to make oral statements pertaining to the agenda during the webinar should contact Elizabeth Schmitt, at the address or telephone number listed above. Requests must be received by April 22, 2013. The Designated Federal Officer is empowered to conduct the meeting in a fashion that will facilitate the orderly conduct of business. Individuals wishing to make public comments will be provided a maximum of five minutes, or as the agenda allows, to present comments.

Minutes: Minutes will be available by writing or calling Elizabeth Schmitt at the address or phone number listed above. Minutes will also be available at the following Web site: http://energy.gov/em/services/communication-engagement/em-site-specific-advisory-board-em-ssab/chairs-meetings.

Issued at Washington, DC on March 29, 2013.
LaTanya R. Butler,
Deputy Committee Management Officer.

[FR Doc. 2013-07831 Filed 4-3-13; 8:45 am]

BILLING CODE 6450-01-P